DEPARTMENT OF HEALTH AND HUMAN SERVICES

Centers for Medicare & Medicaid Services

[Document Identifier: CMS-10137, CMS-10080, CMS-R-296, CMS-1763, and CMS-10116]

Agency Information Collection Activities: Proposed Collection; Comment Request

Agency: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Application for Prescription Drug Plans (PDP); Application for Medicare Advantage Prescription Drug (MA-PD) Plans; Application for Cost Plans to Offer Qualified Prescription Drug Coverage; Application for PACE Organization to Offer Qualified Prescription Drug Coverage; Application for Employer Group Waiver Plans to Offer Prescription Drug Coverage; Service Area Expansion Application to Offer Prescription Drug Coverage in a New Region; Use: Coverage for the prescription drug benefit will be provided through contracted prescription drug plans (PDPs) or through Medicare Advantage (MA) plans that offer integrated prescription drug and health care coverage (MA-PD plans). Cost Plans that are regulated under Section 1876 of the Social Security Act, Employer Group Waiver Plans (EGWP) and PACE plans may also provide a Part D benefit. Organizations wishing to provide services under the Prescription Drug Benefit Program must complete an application, negotiate rates, and receive final approval from CMS. Existing Part D Sponsors may also expand their contracted service area by completing the Service Area Expansion (SAE) application; Form Number: CMS-10137 (OMB#: 0938-0936); Frequency: Reporting—Other—depending on program areas and data requirements; Affected Public: Business or other for-profit, Not-for-profit institutions, Federal government; Number of Respondents: 101; Total Annual Responses: 101; Total Annual Hours: 3,828.

2. Type of Information Collection Request: Revision of a currently approved collection; Title of Information Collection: Publications Use Study; Use: The Balanced Budget Act (BBA) of 1997 increased the number and type of health insurance options available to Medicare beneficiaries and implemented new preventative health care benefits. The BBA also gave CMS a greater responsibility to help Medicare beneficiaries better understand these increased health care options and benefits. This research is designed to strengthen the information dissemination efforts by CMS to meet beneficiaries' needs. The current study expands on previous methodology to include surveys of not only print-based publications but of Web-based publications as well. CMS is mandated to provide a range of information about Medicare health care options, benefits, rights and regulations. This research will evaluate how well CMS is currently meeting this mandate; Form Number: CMS-10080 (OMB#: 0938-0892); Frequency: Recordkeeping and Reporting: Quarterly; Affected Public: Individuals or households; Number of Respondents: 3880; Total Annual Responses: 3880; Total Annual Hours: 1,356.

3. Type of Information Collection Request: Extension of a currently approved collection; Title of Information Collection: Home Health Advance Beneficiary Notice (HHABN) and Supporting Regulations in 42 CFR 411.404 and 484.10(a) and (e); Use: Home Health Agencies (HHAs) are required to provide written notice to Medicare beneficiaries in advance of initiating, terminating or reducing beneficiary service. The notice is designed to ensure that beneficiaries receive complete and useful information to enable them to make informed consumer decisions. HHAs must now issue HHABNs in a broader set of circumstances in conjunction with their responsibilities under the home health Conditions of Participation (COPs) consistent with U.S. Court of Appeals (2nd Circuit) in the Lutwin v. Thompson court decision. The notice must be issued timely and provide clear and accurate information about the specified services which may no longer be covered by Medicare, including the reason(s) that Medicare denied payment for those services. Form Number: CMS-R_296 (OMB#: 0938-0781); Frequency: Recordkeeping, Third party disclosure and Reporting: On occasion, Other: As needed; Affected Public: Individuals or households, Business or other for-profit and Not-for-profit institutions; Number of Respondents: 6928; Total Annual Responses: 216,000; Total Annual Hours: 21,600.

4. Type of Information Collection Request: Extension of a currently approved collection; Title of Information Collection: Request for Termination of Premium Hospital and/or Supplementary Medical Insurance and Supporting Regulations in 42 CFR 406.28 & 407.27; Use: Under 42 CFR sections 406.28(a) and 407.27(c) a Medicare beneficiary, wishing to voluntarily terminate enrollment in Medicare Supplementary Medical Insurance and/or Premium-Hospital Insurance can file a written request with CMS or the Social Security Administration. The form, Request for Termination of Premium Hospital and/or Supplementary Medical Insurance, was developed to comply with these requirements. Form Number: CMS-1763 (OMB#: 0938-0025); Frequency: Reporting: Other: One Time Only; Affected Public: Individuals or households, Federal, State, Local or Tribal Government; Number of Respondents: 14,000; Total Annual Responses: 14,000; Total Annual Hours: 5,833.

5. Type of Information Collection Request: Extension of a currently approved collection; Title of Information Collection: Conditions of Payment of Power Mobility Devices, including Power Wheelchairs and Power-Operated Vehicles (CMS-3017-IFC); Use: CMS-3017-IFC (Conditions for Payment of Power Mobility Devices, including Power Wheelchairs and Power-Operated Vehicles) provides further guidance with respect to the prescribing of, and payment for, Power Mobility Devices (PMDs). This rule defines the term “power mobility devices (PMDs)” as power wheelchairs and power operated vehicles (POVs or scooters). This rule conforms our regulations to section 302(a)(2)(E)(iv) of the Medicare Prescription Drug, Improvement, and Modernization Act of 2003 (MMA). The MMA mandated: (1) A face-to-face examination of the individual be conducted by a physician (as defined in section 1861(r)(1) of the Social Security Act (the Act)), a physician assistant, a nurse practitioner or a clinical nurse specialist (as those terms are defined in section 1861(aa)(5) of the Act; and (2) that payment may not be made for a power wheelchair unless the physician or treating practitioner has written a prescription for the item. With this information collection request, CMS is seeking approval for the collection requirements associated with CMS-3017-IFC (70 FR 50940); Form Number: CMS-10116 (OMB#: 0938-0971); Frequency: Recordkeeping and Reporting—On occasion; Affected Public: Business or other for-profit, Not-for-profit institutions, Federal government, State, Local, or Tribal governments; Number of Respondents: 17,000; Total Annual Responses: 37,400; Total Annual Hours: 37,400.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on May 23, 2006.

CMS, Office of Strategic Operations and Regulatory Affairs, Division of Regulations Development—B, Attention: William N. Parham, III, Room C4-26-05, 7500 Security Boulevard, Baltimore, Maryland 21244-1850.

Dated: March 17, 2006.
Michelle Shortt,
Director, Regulations Development Group, Office of Strategic Operations and Regulatory Affairs.

[FR Doc. 06-2808 Filed 3-23-06; 8:45 am]

BILLING CODE 4120-01-P